DEPARTMENT OF TRANSPORTATION

Federal Aviation Administration

14 CFR Part 39

[Docket No. 2003-NM-163-AD]

RIN 2120-AA64

Airworthiness Directives; Bombardier Model CL-600-2B19 (Regional Jet Series 100 & 440) Airplanes

AGENCY: Federal Aviation Administration (FAA), Department of Transportation (DOT).

ACTION: Supplemental notice of proposed rulemaking; reopening of comment period.

SUMMARY: This document revises an earlier proposed airworthiness directive (AD), applicable to certain Bombardier Model CL-600-2B19 (Regional Jet Series 100 & 440) airplanes, that would have required performing repetitive inspections of the electrical harnesses of the spoiler and the brake pressure sensor unit on both sides of the wing root to detect any chafing or wire damage, and repairing or replacing any damaged or chafed harness or wire with a new harness, as applicable. This new action revises the proposed rule by expanding the applicability to include additional airplanes, deleting the repetitive inspections, and by adding a terminating modification for the one-time inspection. The actions specified by this new proposed AD are intended to detect and correct chafing of the electrical cables of the spoiler and brake pressure sensor unit on both sides of the wing root, which could result in loss of flight control system and consequent reduced controllability of the airplane. This action is intended to address the identified unsafe condition.

DATES: Comments must be received by July 22, 2005.

ADDRESSES: Submit comments in triplicate to the Federal Aviation Administration (FAA), Transport Airplane Directorate, ANM-114, Attention: Rules Docket No. 2003-NM-163-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-163-AD” in the subject line and need not be submitted in triplicate. Comments sent via the Internet as attached electronic files must be formatted in Microsoft Word 97 or 2000 or ASCII text.

The service information referenced in the proposed rule may be obtained from Bombardier, Inc., Canadair, Aerospace Group, P.O. Box 6087, Station Centre-ville, Montreal, Quebec H3C 3G9, Canada. This information may be examined at the FAA, Transport Airplane Directorate, 1601 Lind Avenue, SW., Renton, Washington; or at FAA, New York Aircraft Certification Office, 1600 Stewart Avenue, suite 410, Westbury, New York.

FOR FURTHER INFORMATION CONTACT: Wing Chan, Aerospace Engineer, Systems and Flight Test Branch, ANE-172, FAA, New York Aircraft Certification Office, 1600 Stewart Avenue, suite 410, Westbury, New York 11590; telephone (516) 228-7311; fax (516) 794-5531.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-163-AD.” The postcard will be date stamped and returned to the commenter.

Availability of NPRMs

Any person may obtain a copy of this NPRM by submitting a request to the FAA, Transport Airplane Directorate, ANM-114, Attention: Rules Docket No. 2003-NM-163-AD, 1601 Lind Avenue, SW., Renton, Washington 98055-4056.

Discussion

A proposal to amend part 39 of the Federal Aviation Regulations (14 CFR part 39) to add an airworthiness directive (AD), applicable to certain Bombardier Model CL-600-2B19 (Regional Jet Series 100 & 440) airplanes, was published as a notice of proposed rulemaking (NPRM) (hereafter the “original NPRM”) in the Federal Register on March 11, 2004 (69 FR 11554). The original NPRM would have required performing repetitive inspections of the electrical harnesses of the spoiler and the brake pressure sensor unit on both sides of the wing root to detect any chafing or wire damage, and repairing or replacing any damaged or chafed harness or wire with a new harness, as applicable. The original NPRM was prompted by reports of chafing of the electrical cables of the spoiler and brake pressure sensor unit (BPSU) on both sides of the wing root. That condition, if not corrected, could result in chafing of the electrical cables of the spoiler and brake pressure sensor unit on both sides of the wing root, which could result in loss of flight control system and consequent reduced controllability of the airplane.

Actions Since Issuance of the Original NRPM

Since the issuance of the original NPRM, Transport Canada Civil Aviation (TCCA), which is the airworthiness authority for Canada, has issued Canadian airworthiness directive CF-2003-14R1, dated January 26, 2005, which supersedes Canadian airworthiness directive CF-2003-14, dated May 15, 2003 (referenced in the original NPRM). Revision 1 of that airworthiness directive mandates the actions specified in Bombardier Alert Service Bulletin A601R-27-133, Revision ‘A,’ dated September 16, 2004, described below. Revision 1 also expands the applicability of Canadian airworthiness directive CF-2003-14 to include additional airplane serial numbers that are subject to the identified unsafe condition.

Bombardier has issued Alert Service Bulletin A601R-27-133, Revision “A,” dated September 16, 2004. The service bulletin describes, among other actions, procedures for performing a one-time or repetitive general visual inspections, as applicable, for chafing or wire damage of the electrical harnesses of the spoiler and the BPSU on both sides of the wing root, and repairing or replacing any damaged or chafed harness or wire with a new harness, as applicable. These actions are identical to those specified in Bombardier Alert Service Bulletin A601R-27-101, initial issue, dated April 17, 2000; and Revision “A,” dated October 26, 2001 (referenced in the original NPRM as the appropriate source of service information).

The service bulletin also describes procedures for modifying the routing and support of the electrical harnesses of the spoiler and the brake pressure sensor unit (BPSU) on both sides of the wing root. The modification involves replacing spacer standoffs with new standoffs; replacing cable clamps with new clamps; rerouting the electrical harnesses; installing a nylon feedthru assembly and a layer of Teflon conduit; as applicable.

Accomplishing the actions specified in Bombardier Alert Service Bulletin A601R-27-133, Revision “A,” dated September 16, 2004, is intended to adequately address the unsafe condition. TCCA classified the alert service bulletin as mandatory to ensure the continued airworthiness of these airplanes in Canada.

FAA's Determination

We have examined the findings of the TCCA, reviewed all available information, and determined that it is necessary to revise the original NPRM. Therefore, we are proposing this AD, which would expand the applicability of the original NPRM to include additional airplanes, add a terminating modification, eliminate the repetitive inspections, and refer to Bombardier Alert Service Bulletin A601R-27-133, Revision “A,” dated September 16, 2004, as the appropriate source of service information for accomplishing the proposed actions.

TCCA airworthiness directive CF-2003-14R1 requires, for certain airplanes, repetitive general visual inspections at intervals not to exceed 4,000 flight hours, until accomplishing a terminating modification (i.e., modifying the routing and support of the electrical harnessess of the spoiler and the BPSU on both sides of the wing root) within 4,000 flight hours after the effective date of the TCCA airworthiness directive. We have determined that the repetitive general visual inspections are not necessary in this supplemental NPRM (only a one-time general visual inspection), since the terminating modification would be done within the same compliance time as the repetitive inspections.

TCCA airworthiness directive CF-2003-14R1 also requires, before further flight, repairing any damaged or chafed electrical harness found during the visual inspection (i.e., within 500 flight hours after the effective date of the TCAA airworthiness directive), and requires, within 4,000 flight hours after the repair, replacing any damage or chafed harness or wire with a new harness. Therefore, the TCAA airworthiness directive requires the subject replacement to be done at 4,500 flight hours (includes 500 flight hours for the inspection), which is after the 4,000 flight-hour compliance time for doing the terminating modification. We have determined that the proposed replacement should be done at the same time as the terminating modification. In light of this, this supplemental NPRM would require, within 3,500 flight hours after the repair, replacing any damaged or chafed harness or wire with a new harness.

These differences have been coordinated with the TCCA.

Conclusion

Since these changes expand the scope of the original NPRM, we have determined that it is necessary to reopen the comment period to provide additional opportunity for public comment.

Comments Received

Due consideration has been given to the following comment received in response to the original NPRM:

One commenter requests that paragraph (c) of the original NPRM be revised to give operators credit for accomplishing inspections before the effective date of this AD in accordance with Bombardier Alert Service Bulletin A601R-27-101, Initial Issue, dated April 17, 2000. The commenter states that the only change made to Part A of Revision “A,” of the service bulletin was the deletion of the inspection of the aileron harness and thus has no affect on the intent of what is specified in paragraph (a) of the original NPRM. The commenter also states that the original NPRM, as written, would require operators to unnecessarily perform similar, and even less involved, initial inspections again.

We agree with the commenter's request and have revised paragraph (c) of the supplemental NPRM to give operators credit for accomplishing inspections before the effective date of this AD in accordance with Bombardier Alert Service Bulletin A601R-27-101, Initial Issue, dated April 17, 2000. In addition, we have revised paragraph (c) of the supplemental NPRM to give operators credit for accomplishing inspections, replacements, and repairs before the effective date of this AD in accordance with Bombardier Alert Service Bulletin A601R-27-101, Revision “A,” dated October 26, 2001; or Bombardier Alert Service Bulletin A601R-27-133, Initial Issue, dated July 12, 2004.

Cost Impact

The FAA estimates that 709 airplanes of U.S. registry would be affected by this proposed AD.

It would take approximately 1 work hour per airplane to accomplish the proposed inspection, and that the average labor rate is $65 per work hour. Based on these figures, the cost impact of the inspection proposed by this AD on U.S. operators is estimated to be $46,085, or $65 per airplane.

It would take approximately 5 work hours per airplane to accomplish the proposed modification, and that the average labor rate is $65 per work hour. Required parts would be supplied by the airplane manufacturer at no cost to operators. Based on these figures, the cost impact of the modification proposed by this AD on U.S. operators is estimated to be $230,425, or $325 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Bombardier, Inc. (Formerly Canadair): Docket 2003-NM-163-AD.

Applicability: Model CL-600-2B19 (Regional Jet Series 100 & 440) airplanes, serial numbers 7003 through 7067 inclusive, and 7069 through 7947 inclusive, certificated in any category.

Compliance: Required as indicated, unless accomplished previously.

To detect and correct chafing of the electrical cables of the spoiler and brake pressure sensor unit (BPSU) on both sides of the wing root, which could result in loss of flight control system and consequent reduced controllability of the airplane, accomplish the following:

Initial Inspections

(a) Within 500 flight hours after the effective date of this AD, do a general visual inspection for chafing or wire damage of the electrical harnesses of the spoiler and the BPSU on both sides of the wing root, in accordance with Part A of the Accomplishment Instructions of Bombardier Alert Service Bulletin A601R-27-133, Revision ‘A,’ dated September 16, 2004.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Corrective Actions

(b) If any damaged or chafed electrical harness or wire is found during any inspection required by paragraph (a) of this AD, before further flight, do either paragraph (b)(1) or (b)(2) of this AD.

(1) Replace any damaged or chafed harness or wire with a new harness, in accordance with Part C or Part D of the Accomplishment Instructions of Bombardier Alert Service Bulletin A601R-27-133, Revision ‘A,’ dated September 16, 2004, as applicable.

(2) Repair any damaged or chafed electrical harness in accordance with Part B of the Accomplishment Instructions of Bombardier Alert Service Bulletin A601R-27-133, Revision ‘A,’ dated September 16, 2004. Within 3,500 flight hours after the repair is done, do paragraph (b)(1) of this AD.

Credit for Earlier Service Bulletins

(c) Inspections, replacements, and repairs accomplished before the effective date of this AD in accordance with Bombardier Alert Service Bulletin A601R-27-101, Initial Issue, dated April 17, 2000; or Revision ‘A,’ dated October 26, 2001; or Bombardier Alert Service Bulletin A601R-27-133, Initial Issue, dated July 12, 2004; are acceptable for compliance with the corresponding requirements of this AD.

Terminating Modification

(d) Within 4,000 flight hours after the effective date of this AD, modify the routing and support of the electrical harnesses of the spoiler and the BPSU on both sides of the wing root by accomplishing all the actions specified in Part E or F, as applicable, of the Accomplishment Instructions of Bombardier Alert Service Bulletin A601R-27-133, Revision ‘A,’ dated September 16, 2004. Accomplishing the modification constitutes compliance with the requirements of this AD.

Exception to Service Bulletin

(e) Although Bombardier Alert Service Bulletin A601R-27-133, Revision ‘A,’ dated September 16, 2004, specifies to submit certain information to the manufacturer, this AD does not include such a requirement.

Alternative Methods of Compliance

(f) In accordance with 14 CFR 39.19, the Manager, New York Aircraft Certification Office, FAA, is authorized to approve alternative methods of compliance for this AD.

Note 2: The subject of this AD is addressed in Canadiar airworthiness directive CF-2003-14R1, effective February 26, 2005.

Issued in Renton, Washington, on June 21, 2005.
Ali Bahrami,
Manager, Transport Airplane Directorate, Aircraft Certification Service.

[FR Doc. 05-12637 Filed 6-24-05; 8:45 am]

BILLING CODE 4910-13-P